FEDERAL MARITIME COMMISSION

Sunshine Act Meeting

AGENCY HOLDING THE MEETING: Federal Maritime Commission.

TIME AND DATE: November 17, 2016—10 a.m.

PLACE: 800 North Capitol Street NW., First Floor Hearing Room, Washington, DC.

STATUS: The meeting agenda originally published November 15, 2016, 81 FR 80055, is revised to add item 4 in the Closed Session. The change was made upon a unanimous vote of the Commission. The first portion of the meeting will be held in Open Session and will be streamed live at http://fmc.capitolconnection.org/; the second portion in closed session.

MATTERS TO BE CONSIDERED:

Open Session

1. Briefing by the Chairman on the World Shipping Summit

2. Staff Briefing on OTI License Renewals

Closed Session

1. Staff Briefing on Hanjin Bankruptcy and Shipping Disruptions

2. Update on the PierPASS Third-party Audit and Extended Gate Workshop

3. Empirical Analysis of Changing Alliance Structures in the Transpacific Trade

4. THE Alliance Agreement, FMC Agreement No. 012439

CONTACT PERSON FOR MORE INFORMATION: Rachel E. Dickon, Assistant Secretary, (202) 523 5725.

Rachel E. Dickon,
Assistant Secretary.

[FR Doc. 2016-28051 Filed 11-17-16; 12:00 pm]

BILLING CODE 6731-AA-P